DEPARTMENT OF AGRICULTURE

Forest Service

Colville National Forest; Washington; Old Curlew Ranger Station Facilities Disposal

AGENCY: Forest Service, USDA.

ACTION: Notice of intent to prepare an environmental impact statement.

SUMMARY: The Colville National Forest, USDA Forest Service, will prepare an EIS (environmental impact statement) on a proposal to sell the old Curlew Ranger Station administrative site, a 3-acre parcel including buildings, located on the south side of Curlew, in Ferry County, Washington. The parcel and buildings are no longer needed to meet public service or Forest Service mission requirements. The Forest Service Facility Realignment and Enhancement Act of 2005 authorized the Secretary of Agriculture to sell administrative sites that are no longer needed for National Forest System purposes. Project implementation is scheduled for Fiscal Year 2007. This project is not associated with the proposed Secure Rural Schools Land Sale Initiative. The Colville National Forest invites written comments and suggestions on the scope of the analysis. The agency will give notice of the full environmental analysis and decision-making process so interested and affected people may participate and contribute to the final decision.

DATES: Comments concerning the scope of the analysis must be received by December 29, 2006. The draft environmental impact statement is expected February 2007 and the final environmental impact statement is expected in May 2007.

ADDRESSES: Send written comments to Rick Brazell, Forest Supervisor, Colville National Forest, 765 South Main, Colville, WA 99114 (phone 509-684-7000). Comments may be submitted electronically to comments-pacificnorthwest-colville@fs.fed.us. Comments may also be sent by fax to (509) 775-7401. Include your name and mailing address with your comments so documents pertaining to this project may be mailed to you.

FOR FURTHER INFORMATION CONTACT: Ed Shaw, Reality Specialist, Colville National Forest, 765 South Main, Colville, WA 99114 (phone 509-684-7129), or Jim Parker, EIS Project Leader, Republic Ranger District, 650 East Delaware, Republic, WA 99166 (phone 509-775-7462).

SUPPLEMENTARY INFORMATION:

Purpose and Need for Action

One of the key findings of the Colville National Forest Facilities Master Plan is that the Colville National Forest maintains more facility space than it needs to perform its mission. The Colville National Forest needs to remove unneeded buildings from the Forest's facility inventory in order to eliminate the cost of maintaining unneeded facilities.

Proposed Action

The proposed action is to sell the old Curlew Ranger Station administrative site, a 3-acre parcel of land including buildings located on the south side of Curlew, Washington. The property legal description is: A portion of the SW¼NE¼ Section 14, T39N, R33E, WM. This 3-acre site is located adjacent to the small town of Curlew, Washington, about 9 miles south of the Canadian border. The land was purchased by the Forest Service in 1936 and used as a ranger station until 1969 when two Ranger District areas were combined.

The site has five major structures (one residential house, one residential garage, one 6-bay garage shop, one 12-person bunkhouse and one oil/gas house) and a small storage shed. The mineral estate would be disposed of with the surface estate with no reservation. Water is provided by a community system. The sewer system is independent; however a community sewer system is under development.

The property may be sold directly to an identified purchaser or may be sold under competitive bidding procedures. The method of sale will be determined at a later date. If the property is offered for sale under competitive bidding procedures, an Invitation for Bid will provide specific information, including a minimum bid price, the scheduled starting date for bidding, approximate bid closing date, requirements and instructions for bidding, payment and other closing procedures. An Offer to Sell will be released after all environmental studies and other required analysis are completed and a final decision to sell the property is made.

Responsible Official

The Responsible Official is Rick Brazell, Forest Supervisor, Colville National Forest, 765 South Main, Colville, WA 99114.

Nature of Decision To Be Made

The Responsible Official will decide whether or not to proceed with sale of the old Curlew Ranger Station property, including any outstanding interests or conditions to be conveyed. The decision and rationale for the decision will be documented in the Record of Decision, which will be subject to Forest Service Appeal Regulations (36 CFR part 215).

Scoping Process

The scoping process will identify and clarify issues, identify key issues to be analyzed in depth, explore alternatives based on themes derived from key issues recognized during the scoping process, and identify potential environmental effects associated with the proposed action. A No Action alternative will be considered.

Preliminary Issues

Only one key issue was identified in preliminary project assessment: The National Historic Preservation Act of 1966, Revised, requires that Federal agencies evaluate properties for historic significance under Section 106. Three structures at the Curlew Ranger Station have been found eligible to the National Register of Historic Places (NRHP), with the Washington State Historic Preservation Office concurring on this finding. These three structures are the Ranger's Residence, Garage, and Oil and Gas house. Conveyance of the property from Federal ownership will be an adverse effect because of NRHP eligibility based on the following criteria: The property may represent a significant contribution to the American history (Criterion A), is associated with the lives of significant persons in our past (Criterion B), displays distinctive characteristics of type or period (Criterion C), or may be likely to yield information important to history (Criterion D). The NRHP eligibility for the three structures at the Curlew Ranger Station is based on a national significance of context in association with the Depression-era Civilian Conservation Corps. Eligibility is also based on national and regional significance of context associated with distinctive architectural characteristics.

Comment Requested: This notice of intent initiates the scoping process which guides the development of the environmental impact statement. The Forest Service is seeking information, comments, and assistance from other agencies, organizations, Indian Tribes, and individuals who may be interested in or affected by the Proposed Action. This input will be used in preparation of the Draft EIS. Your comments are appreciated throughout the analysis process.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 21, 2006.
Mimi Tryon,
Acting Forest Supervisor.

[FR Doc. 06-9420 Filed 11-27-06; 8:45 am]

BILLING CODE 3410-11-M